DEPARTMENT OF HOUSING AND URBAN DEVELOPMENT

[Docket No. FR-5288-N-04]

Notice of Proposed Information Collection for Public Comment Public Housing Lease Requirements

AGENCY: Office of the Assistance Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: May 29, 2009.

ADDRESSES: Interested persons are invited to submit comments regarding this proposal. Comments should refer to the proposal by name and/or OMB Control number and sent to: Lillian L. Deitzer, Departmental Reports Management Officer, QDAM, Department of Housing and Urban Development, 451 7th Street, SW., Room 4178, Washington, DC 20410-5000; telephone 202-402-8048 (this is not a toll-free number) or e-mail Ms. Deitzer at Lillian.L.Deitzer@hud.gov for a copy of the proposed forms or other available information.

FOR FURTHER INFORMATION CONTACT: Dacia Rogers, Office of Policy, Programs and Legislative Initiatives, PIH, Department of Housing and Urban Development, 451 7th Street, SW., Room 4116, Washington, DC 20410; telephone 202-402-3374, for copies of other available documents (this is not a toll-free number.)

SUPPLEMENTARY INFORMATION: The Department will submit the proposed information collection to the Office of Management and Budget (OMB) for review, as required by the Paper Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Public Housing Lease Requirements—24 CFR 966.4.

OMB Control Number: 2577-0006.

Description of the Need for the Information and Proposed Use: HUD regulations 24 CFR 966.4 prescribe the provisions that shall be incorporated in leases by public housing agencies (PHAs) for dwelling units assisted under the U.S. Housing Act of 1937 in projects owned by or leased to PHAs and leased or subleased by PHAs to the tenants.

This recordkeeping requirement imposed upon PHAs by HUD regulations and associated information collected by the PHA from tenants is incidental to the PHAs' day-to-day operations as landlords of rental housing. If these minimal requirements were not imposed; the Federal Government would have no assurance that PHAs were adopting leases consistent with the law and regulations and no assurance that tenants were being provided proper access to the PHA's grievance procedures.

Agency Form Numbers: None.

Members of Affected Public: State or local Government; Public Housing Agencies (PHAs), Individuals or Households.

Estimation of the Total Number of Hours Needed to Prepare the Information Collection Including Number of Respondents, Frequency of Response, and Hours of Response: 3,300 respondents; 144 average number of tenants; annually frequency of responses;.33 hours per response (recordkeeping); 156,816 total burden hours.

Status of the Proposed Information Collection: Extension.

Authority: The Paperwork Reduction Act of 1995, 44 U.S.C. Chapter 35, as amended.

Dated: March 24, 2009.
Merrie Nichols-Dixon,
Deputy Director for Policy, Program and Legislative Initiatives.

[FR Doc. E9-6946 Filed 3-27-09; 8:45 am]

BILLING CODE 4210-67-P